DEPARTMENT OF TRANSPORTATION

Federal Aviation Administration

14 CFR Part 33

[Docket No. NE129; Special Conditions No. 33-007-SCI]

Special Conditions: General Electric Company GEnx-2B Model Turbofan Engines

AGENCY: Federal Aviation Administration (FAA), DOT.

ACTION: Final special conditions; correction.

SUMMARY: This document makes a correction to final special conditions, NE129, 33-007-SC, applicable to General Electric Company (GE) GEnx-2B67 and GEnx-2B69 model turbofan engines that was published in the Federal Register on April 24, 2009 (74 FR 18624). Two typographical errors occurred under the Background section and one typographical error under The Special Conditions section. This document corrects these errors. In all other respects, the original document remains the same.

DATES: The effective date of these special conditions is June 23, 2009.

SUPPLEMENTARY INFORMATION:

Background

A final special conditions applicable to the General Electric Company (GE) was published in the Federal Register on April 24, 2009 (74 FR 18624). The following corrections are needed:

On page 18625, in the left column in the Background, first paragraph, 7th line, the model “GEnx-B54” should be changed to “GEnx-1B54”.

On page 18625, in the left column in the Background, 4th paragraph, 2nd line, the model “GE90-11SB” should be changed to “GE90-115B”. On page 18626, center column in The Special Conditions, paragraph (e), 10th line, the term “10 per” should be changed to “10⁻⁹ per”.

Issued in Burlington, Massachusetts, on June 12, 2009.
Peter A. White,
Acting Manager, Engine and Propeller Directorate, Aircraft Certification Service.

[FR Doc. E9-14618 Filed 6-22-09; 8:45 am]

BILLING CODE 4910-13-M